DEPARTMENT OF COMMERCE

Foreign-Trade Zones Board

[Order No. 1693]

Expansion of Foreign-Trade Zone 163 Ponce, Puerto Rico, Area

Pursuant to its authority under the Foreign-Trade Zones Act of June 18, 1934, as amended (19 U.S.C. 81a-81u), the Foreign-Trade Zones Board (the Board) adopts the following Order:

Whereas, CODEZOL, C.D., grantee of Foreign-Trade Zone 163, submitted an application to the Board for authority to expand its zone to include a site at the Yaucono Industrial Park (Site 12) in Ponce, Puerto Rico, within the Ponce Customs and Border Protection port of entry (FTZ Docket 17-2010, filed 3/8/10);

Whereas, notice inviting public comment was given in the Federal Register (75 FR 12730-12731, 3/17/10) and the application has been processed pursuant to the FTZ Act and the Board's regulations; and,

Whereas, the Board adopts the findings and recommendation of the examiner's report (including the renumbering of Rio Piedras Distribution Center located within existing Site 3 as Site 13), and finds that the requirements of the FTZ Act and Board's regulations are satisfied, and that the proposal is in the public interest;

Now, therefore, the Board hereby orders:

The application to expand FTZ 163 is approved, subject to the FTZ Act and the Board's regulations, including § 400.28, and subject to a sunset provision that would terminate authority on June 30, 2015, for Site 12 if no activity has occurred under FTZ procedures before that date.

Signed at Washington, DC, this 8 day of July 2010.
Ronald K. Lorentzen,
Deputy Assistant Secretary for Import Administration, Alternate Chairman, Foreign-Trade Zones Board.
Attest:
Andrew McGilvray,
Executive Secretary.

[FR Doc. 2010-17540 Filed 7-16-10; 8:45 am]

BILLING CODE 3510-DS-P